DEPARTMENT OF THE INTERIOR

Bureau of Land Management

Notice of Availability of Proposed Planning Criteria and Public Meeting Related to the Multi-Jurisdictional Land-Use Planning Effort for the Coast Dairies Property, Santa Cruz County, CA

AGENCY: Bureau of Land Management, Interior.

ACTION: Availability of proposed planning criteria and notice of public meeting.

SUMMARY: The U.S. Department of the Interior's Bureau of Land Management (BLM) provides formal notice that, pursuant to 43 CFR 1610.2(f)(2) and 1610.4-2, the proposed planning criteria related to the Hollister Resource Management Plan Amendment are available for public review and comment. Comments will be accepted until December 31, 2001. This notice also announces a public meeting to take public comment on the proposed planning criteria for the planning process, review the draft opportunity and constraints portion of the multi-jurisdictional land-use planning effort, and discuss the project description for the plan's environmental impact documentation process. The public meeting will be held on Saturday, November 17, 2001, in Santa Cruz, California.

DATES: Comments will be accepted until December 31, 2001, and the public meeting will be held November 17, 2001, 10 a.m. to 2 p.m., Santa Cruz, CA.

ADDRESSES: Comments on the proposed planning criteria should be sent to the Field Manager, USDI Bureau of Land Management, 20 Hamilton Court, Hollister, CA 95023, ATTN: Coast Dairies Planning Project.

FOR FURTHER INFORMATION CONTACT: Rick Hanks, 831-630-5036.

SUPPLEMENTARY INFORMATION: The BLM is participating in a multi-jurisdictional land-use planning effort with the California Department of Parks and Recreation (DPR) and the Trust for Public Land (TPL), a California non-profit public corporation. The planning effort is being conducted by the TPL for the Coast Dairies Property located in northern Santa Cruz County, California. As part of this planning effort, BLM is preparing an amendment to the Hollister Resource Management Plan (RMP). The RMP amendment will be conducted in order to assess the feasibility of transferring part or all of the property to BLM, or BLM and DPR, for joint management between BLM and DPR, and to include the implementation of the final planning decision, if appropriate, under the Hollister RMP. This planning effort will include the preparation of a companion environmental impact analysis.

Preliminary Planning Criteria:

BLM planning regulations 43 CFR 1610.2(f)(2) and 1610.4-2 require preparation of planning criteria to guide development of all resource management plans or revisions. Planning criteria are the ground rules that guide and direct the development of the plan. They determine how the planning team approaches the development of alternatives and ultimately, selection of a Preferred Alternative. Planning criteria are based on standards prescribed by applicable laws and regulations; agency guidance; the result of consultation and coordination with the public, other Federal, State and local agencies and governmental entities, and Indian tribes; analysis of information pertinent to the planning area; and professional judgment. After public input analysis, they become proposed criteria, and can be added to or changed as the issues are addressed or new information is presented.

The following proposed planning criteria are provided for public review and comment:

• The Plan will establish guidance upon which the BLM will rely in managing the Coast Dairies Property cooperatively with the California Department of Parks and Recreation (DPR).

• The Plan will recognize the Coast Dairies Property as a unique natural and cultural landscape and coastline, and will give priority to actions that complement or enhance its natural and pastoral qualities.

• The planning process will encourage public participation and a collaborative process that strives to incorporate community, visitor, and other entities' needs and values while protecting the resources of the Coast Dairies Property.

• The Plan will be completed in compliance with Federal Land Policy and Management Act and all other applicable laws.

• The Plan will include an Environmental Impact Statement that will comply with National Environmental Policy Act standards and an Environmental Impact Report the will comply with the California Environmental Quality Act.

• The Plan will emphasize protection and enhancement of the biological and open space values afforded by the resources, the size, and the connectivity of the Coast Dairies Property while at the same time providing new and diverse recreational opportunities compatible with the management of existing uses and the protection of natural and cultural resources.

• Plan decisions will give priority to the protection and restoration of key resources such as stream, riparian, and watershed habitats and coastal prairies.

• The lifestyles and concerns of area residents will be recognized in the Plan.

• The Plan will recognize valid existing land use commitments within the Coast Dairies Property and review how valid existing uses are verified. The Plan may allow for other economic uses of the land, provided they are consistent with the overriding biological and open space conservation needs and objectives.

• Plan decisions will use the best available science and an adaptive management approach, i.e., continual monitoring of the Property's resources as the basis for decisions related to the land's uses.

• The planning process will protect Native American cultural resources and traditional uses.

• The Plan will address transportation and access, and will identify where better access is warranted, where access should remain as is, and where decreased access is appropriate to protect resources and manage visitation.

• Decisions in the plan will strive to be compatible with the existing plans and policies of adjacent local, State, and Federal agencies as long as the decisions are consistent with the purpose, policies, and programs of Federal laws and regulations applicable to public lands.

• The Plan will carry forward the concept of “seamless management” of the Coast Dairies Property between BLM, State Parks, TPL, and cooperating partners.

• The process will recognize that other Federal agencies, State and local governments have jurisdiction over resources and uses within the planning area (e. g. coastal zone), and will collaborate with these entities to develop complementary management decisions.

• The Plan will create valuable opportunities for education in the field of integrating traditional economic and recreational activities, including sustainable coastal agriculture, with programs designed to protect native biodiversity and other natural landscape values.

Planning Issues

The planning criteria are developed under the major planning issues of which the plan is intended to resolve. In accordance with 43 CFR 1610.4-1, the BLM planning process is issue-driven and BLM regulations equate land use planning with problem solving and issue resolution. A planning issue is “a matter of controversy or dispute over resource management activities or land use that is well defined or topically discrete and entails alternatives between which to choose.” This definition suggests that one or more entity is interested in a resource on public land, that entity may have different values for the resource, and that there are different ways in which to resolve the competition or demand.

A number of issues have been raised about the long-term use and protection of Property. Preliminary planning issues and management concerns have surfaced during an initial series of facilitated meetings focused on issues and concerns related to the long-term management of the Coast Dairies Property.

We expect that the major BLM issues to be addressed in the Plan will be the following:

• How will the Coast Dairies' natural and cultural resources and unique landscape values be protected?

• How will the existing uses be managed on the Coast Dairies Property?

• How will new uses be managed on the Coast Dairies Property?

• What facilities and infrastructure are needed to provide visitor services and administration of the Coast Dairies Property?

• Does the Coast Dairies Property warrant any special designation(s)?

• How will the management of the Coast Dairies Property be integrated with State Parks and the various other partners and their plans and planning processes?

Public Meeting. A public meeting related to the multi-jurisdictional land-use planning effort is being held on Saturday, November 17, 2001, at the Santa Cruz School District Office, 2931 Mission Street, Santa Cruz, California. The meeting is scheduled to begin at 10 a.m. and end by 2 p.m. The public meeting will also serve as a meeting of TPL's Community Advisory Committee on the Coast Dairies Plan. The purpose of the public meeting is to take public comment on the proposed planning criteria, review the draft opportunity and constraints portion of the multi-jurisdictional land-use planning effort, and discuss the project description for the Plan's environmental impact documentation process.

Authority: 43 U.S.C. 1711-1712.

Dated: September 27, 2001.
Herrick E. Hanks,
Assistant Field Manager.

[FR Doc. 01-28609 Filed 11-14-01; 8:45 am]

BILLING CODE 28609-40-P